DEPARTMENT OF THE INTERIOR

Bureau of Land Management

[LLORW00000.10200000.DF0000.LXSSH1080000.223.HAG 22-0007]

Notice of Public Meetings for the San Juan Islands National Monument Advisory Committee, Washington

AGENCY: Bureau of Land Management, Interior.

ACTION: Notice of public meetings.

SUMMARY: In accordance with the Federal Land Policy and Management Act and the Federal Advisory Committee Act of 1972, the U.S. Department of the Interior, Bureau of Land Management's (BLM) San Juan Islands National Monument Advisory Committee (MAC) will meet as follows.

DATES: The MAC will meet virtually on Wednesday, February 3, 2022. This meeting will run from 9:00 a.m. to 1:30 p.m. with a public comment period in the afternoon from noon until 1 p.m.

The MAC will meet virtually on Wednesday, May 18, 2022. This meeting will run from 9:00 a.m. to 2:30 p.m. with a public comment period in the afternoon from noon until 1 p.m.

ADDRESSES: Both meetings will be held online through the Zoom meeting application. Participation information will be available on the MACs web page at least 2 weeks in advance of the meetings at https://www.blm.gov/get-involved/resource-advisory-council/near-you/oregon-washington/san-juan-islands-mac.

The public may send written comments for the MAC to the BLM Spokane District Office, Attn. MAC, 1103 N Fancher, Spokane Valley, WA 99212, or via email to the contact below.

FOR FURTHER INFORMATION CONTACT: Jeff Clark, Spokane District Public Affairs Officer, 1103 N Fancher, Spokane Valley, WA 99212, (509) 536-1297, or jeffclark@blm.gov. Persons who use a telecommunications device for the deaf (TDD) may call the Federal Relay Service at (800) 877-8339 to contact Mr. Clark during normal business hours. This service is available 24 hours a day, 7 days a week, to leave a message or question with the above individual. You will receive a reply during normal business hours.

SUPPLEMENTARY INFORMATION: The San Juan Islands MAC is comprised of 12 members representing a wide array of interests, including recreation, Tribal interests, education, environmental organizations, and landowners. The February meeting will begin at 9 a.m. with a welcome of new MAC members. After introductions, the members will spend time reviewing the Proposed Resource Management Plan (RMP) and Final Environmental Impact Statement and clarifying items from the BLM. This discussion/review will continue until a working lunch at noon. At noon, members of the public will have the opportunity to make comments to the MAC during a one-hour public comment period. The review will continue after the public comment period, if necessary. The next topic will be to consider opportunities for the MAC to support implementation of the management plan once the record of decision is signed. The MAC will adjourn no later than 1:30 p.m.

The May meeting will also begin at 9 a.m. with welcomes and introductions. After introductions, the members will: Review the RMP and Record of Decision; discuss whether the MAC will recommend those documents be signed by the Secretary; and other clarifying items from the BLM. This discussion/review will continue until a working lunch at noon. At noon, members of the public will have the opportunity to make comments to the MAC during a one-hour public comment period. The review will continue after the public comment period, if necessary. The next topic will be to consider opportunities for the MAC to support implementation of the approved RMP. The MAC will adjourn no later than 2:30 p.m.

All advisory council meetings are open to the public. Persons wishing to make comments during the public comment period should register in person with the BLM by 11 a.m. on the meeting day. Depending on the number of persons wishing to comment, the length of comments may be limited.

Before including your address, phone number, email address, or other personal identifying information in your comment, you should be aware that your entire comment—including your personal identifying information—may be made publicly available at any time. While you can ask us to withhold your personal identifying information from public review, we cannot guarantee that we will be able to do so.

(Authority: 43 CFR 1784.4-2)

Kurt Pindel,
Spokane District Manager.

[FR Doc. 2022-00469 Filed 1-11-22; 8:45 am]

BILLING CODE 4310-33-P